DEPARTMENT OF THE INTERIOR

Bureau of Land Management

[LLNV952000-09-L14200000-BJ0000; 09-08807; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, NV 89520, 775-861-6541.

SUPPLEMENTARY INFORMATION: 1. The Plat of Survey of the following described lands was officially filed at the Nevada State Office, Reno, Nevada, on October 16, 2008:

The plat representing the dependent resurvey of portions of the south and west boundaries of Township 19 North, Range 31 East, Mount Diablo Meridian, Nevada, under Group No. 858, was accepted October 9, 2008.

This survey was executed to meet certain administrative needs of the United States Fish and Wildlife Service.

2. The Plats of Survey of the following described lands were officially filed at the Nevada State Office, Reno, Nevada, on December 9, 2008:

The plat representing the dependent resurvey of a portion of the north boundary of Township 10 South, Range 62 East; and the dependent resurvey of a portion of the subdivisional lines, and the subdivision of sections 22, 27 and 34, Township 9 South, Range 62 East, Mount Diablo Meridian, Nevada, under Group No. 828, was accepted December 2, 2008.

The plat, in two sheets, representing the dependent resurvey of a portion of the east boundary and a portion of the subdivisional lines, and the subdivision of certain sections, Township 10 South, Range 62 East, Mount Diablo Meridian, Nevada, under Group No. 828, was accepted December 2, 2008.

The plat representing the dependent resurvey of a portion of the east boundary and a portion of the subdivisional lines, and the subdivision of sections 13, 24 and 25, Township 11 South, Range 62 East, Mount Diablo Meridian, Nevada, under Group No. 828, was accepted December 2, 2008.

These surveys were executed to meet certain administrative needs of the United States Fish and Wildlife Service.

3. The Supplemental Plat of Survey of the following described lands was officially filed at the Nevada State Office, Reno, Nevada, on December 18, 2008:

The supplemental plat, showing the subdivision of former lot 19, sec. 19, Township 22 South, Range 60 East, Mount Diablo Meridian, Nevada, was accepted December 16, 2008.

This supplemental plat was prepared to meet certain administrative needs of the Bureau of Land Management.

4. The above-listed surveys are now the basic record for describing the lands for all authorized purposes. These surveys have been placed in the open files in the BLM Nevada State Office and are available to the public as a matter of information. Copies of the surveys and related field notes may be furnished to the public upon payment of the appropriate fees.

Dated: January 6, 2009.
David D. Morlan,
Chief Cadastral Surveyor, Nevada.

[FR Doc. E9-729 Filed 1-14-09; 8:45 am]

BILLING CODE 4310-HC-P